DEPARTMENT OF HOMELAND SECURITY

Federal Emergency Management Agency

[Docket ID FEMA-2019-0002; Internal Agency Docket No. FEMA-B-1925]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 19, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1925, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Johnson County, Indiana and Incorporated Areas
Project: 17-05-0798S Preliminary Date: January 8, 2019
City of Greenwood | City of Greenwood City Center, Planning Department, 300 South Madison Avenue, Greenwood, IN 46142.
Harrison County, Iowa and Incorporated Areas
Project: 17-07-0407S Preliminary Date: January 11, 2019
City of Dunlap | City Hall, 716 Iowa Avenue, Dunlap, IA 51529.
City of Little Sioux | Harrison County Engineer's Building, 301 North 6th Avenue, Logan, IA 51546.
City of Logan | City Hall, 108 West 4th Street, Logan, IA 51546.
City of Missouri Valley | City Hall, 223 East Erie Street, Missouri Valley, IA 51555.
City of Modale | City Hall, 310 East Palmer Street, Modale, IA 51556.
City of Mondamin | City Hall, 120 South Main Street, Mondamin, IA 51557.
City of Persia | City Hall, 117 Main Street, Persia, IA 51563.
City of Pisgah | Harrison County Engineer's Building, 301 North 6th Avenue, Logan, IA 51546.
City of Woodbine | City Hall, 517 Walker Street, Woodbine, IA 51579.
Unincorporated Areas of Harrison County | Harrison County Engineer's Building, 301 North 6th Avenue, Logan, IA 51546.
Scott County, Iowa and Incorporated Areas
Project: 17-07-0052S Preliminary Date: October 5, 2018
City of Bettendorf | City Hall, 1609 State Street, Bettendorf, IA 52722.
City of Blue Grass | City Hall, 114 North Mississippi Street, Blue Grass, IA 52726.
City of Buffalo | City Hall, 329 Dodge Street, Buffalo, IA 52728.
City of Davenport | City Hall, 226 West 4th Street, Davenport, IA 52801.
City of Dixon | City Hall, 610 Davenport Street, Dixon, IA 52745.
City of Donahue | City Hall, 106 1st Avenue, Donahue, IA 52746.
City of Eldridge | City Hall, 305 North 3rd Street, Eldridge, IA 52748.
City of Le Claire | City Hall, 325 Wisconsin Street, Le Claire, IA 52753.
City of Long Grove | City Hall, 104 South 1st Street, Long Grove, IA 52756.
City of McCausland | City Hall, 305 North Salina Street, McCausland, IA 52758.
City of Panorama Park | City Hall, 120 Short Street, Panorama Park, IA 52722.
City of Princeton | City Hall, 311 3rd Street, Princeton, IA 52768.
City of Riverdale | City Hall, 110 Manor Drive, Riverdale, IA 52722.
City of Walcott | City Hall, 128 West Lincoln Street, Walcott, IA 52773.
Unincorporated Areas of Scott County | Scott County Courthouse, 600 West 4th Street, Davenport, IA 52801.
Reno County, Kansas and Incorporated Areas
Project: 10-07-0016S Preliminary Date: March 1, 2019
City of Hutchinson | City Hall, 125 East Avenue B, Hutchinson, KS 67501.
City of Nickerson | City Hall, 15 North Nickerson Street, Nickerson, KS 67561.
City of South Hutchinson | City Hall, 2 South Main Street, South Hutchinson, KS 67505.
City of Willowbrook | Reno County Courthouse, 206 West 1st Avenue, Hutchinson, KS 67501.
Unincorporated Areas of Reno County | Reno County Courthouse, 206 West 1st Avenue, Hutchinson, KS 67501.
Marshall County, Minnesota and Incorporated Areas
Project: 15-05-0583S Preliminary Date: February 28, 2018
City of Alvarado | City Hall, 155 Marshall Street, Alvarado, MN 56710.
City of Argyle | City Hall, 701 Pacific Avenue, Argyle, MN 56713.
City of Oslo | City Hall, 107 Third Avenue East, Oslo, MN 56744.
Unincorporated Areas of Marshall County | Marshall County Courthouse, 208 East Colvin Avenue, Warren, MN 56762.
Wilkin County, Minnesota and Incorporated Areas
Project: 18-05-0006S Preliminary Date: December 28, 2018
City of Breckenridge | City Hall, 420 Nebraska Avenue, Breckenridge, MN 56520.
City of Doran | City Hall, 1106 Fourth Street, Doran, MN 56522.
Unincorporated Areas of Wilkin County | Wilkin County Courthouse, 300 Fifth Street South, Breckenridge, MN 56520.
Richland County, North Dakota and Incorporated Areas
Project: 18-05-0006S Preliminary Date: December 28, 2018
City of Wahpeton | City Hall, 1900 Fourth Street North, Wahpeton, ND 58075.
Township of Center | Board of Center Township, 17915 84th Street Southeast, Wahpeton, ND 58075.
Township of Dwight | Board of Dwight Township, 17660 County Road 10, Wahpeton, ND 58075.
Township of Fairmount | Board of Fairmount Township, 9480 Highway 127, Fairmount, ND 58030.
Township of Summit | Board of Summit Township, 8945 179th Avenue Southeast, Fairmount, ND 58030.
Unincorporated Areas of Richland County | Richland County Courthouse, 418 Second Avenue North, Wahpeton, ND 58075.

[FR Doc. 2019-10393 Filed 5-17-19; 8:45 am]

BILLING CODE 9110-12-P